DEPARTMENT OF AGRICULTURE

Agricultural Marketing Service

Designation for the Aberdeen, South Dakota; Hastings, Nebraska; and Missouri Areas

AGENCY: Agricultural Marketing Service, USDA.

ACTION: Notice of designation.

SUMMARY: AMS is announcing the designations of Aberdeen Grain Inspection, Inc. (Aberdeen); Hastings Grain Inspection, Inc. (Hastings); and the Missouri Department of Agriculture (Missouri) to provide official services under the United States Grain Standards Act (USGSA), as amended. The realignment of offices within the U.S. Department of Agriculture authorized by the Secretary's Memorandum dated November 14, 2017, eliminates the Grain Inspection, Packers and Stockyard Administration (GIPSA) as a standalone agency. The grain inspection activities formerly part of GIPSA are now organized under the Agricultural Marketing Service (AMS).

DATES: October 1, 2017.

ADDRESSES: Jacob Thein, Compliance Officer, USDA, AMS, FGIS, QACD, 10383 North Ambassador Drive, Kansas City, MO 64153.

FOR FURTHER INFORMATION CONTACT: Jacob Thein, 816-866-2223, Jacob.D.Thein@usda.gov or FGIS.QACD@usda.gov. Read applications: All applications and comments are available for public inspection at the office above during regular business hours (7 CFR 1.27(c)).

SUPPLEMENTARY INFORMATION: In the May 22, 2017, and May 30, 2017, Federal Register (82 FR 23174) and (82 FR 24671-24673), GIPSA requested applications for designation to provide official services in the geographic areas presently serviced by Aberdeen, Hastings, and Missouri. Applications for Missouri were due by June 21, 2017. Applications for Aberdeen and Hastings were due by June 29, 2017.

Because the current official agencies, Aberdeen, Hastings, and Missouri were the only applicants for designation to provide official services in these areas, GIPSA did not seek additional comments.

GIPSA evaluated the designation criteria in section 7(f) of the USGSA (7 U.S.C. 79(f)) and determined that Aberdeen, Hastings, and Missouri are qualified to provide official services in the geographic areas specified in the Federal Register on May 22 and May 30, 2017. These designations to provide official services in the specified areas of Aberdeen, Hastings, and Missouri became effective October 1, 2017, and expire September 30, 2022.

Interested persons may obtain official services by contacting these agencies at the following telephone number:

Official agency | Headquarters location and telephone | Designation start | Designation end
Aberdeen | Aberdeen, SD, 605-225-8432 | 10/1/2017 | 9/30/2022
Hastings | Hastings, NE, 402-462-4254 | 10/1/2017 | 9/30/2022
Missouri | Jefferson City, MO, 573-751-5515 | 10/1/2017 | 9/30/2022

Section 7(f) of the USGSA authorizes the Secretary to designate a qualified applicant to provide official services in a specified area after determining that the applicant is better able than any other applicant to provide such official services (7 U.S.C. 79(f)).

Bruce Summers,
Acting Administrator, Agricultural Marketing Service.

[FR Doc. 2017-27061 Filed 12-14-17; 8:45 am]

BILLING CODE 3410-KD-P